DEPARTMENT OF ENERGY

Federal Energy Regulatory Commission

[Docket No. RP02-427-002]

Williams Gas Pipelines Central, Inc.; Notice of Compliance Filing

October 17, 2002.

Take notice that on October 11, 2002,Williams Gas Pipelines Central, Inc. (Williams) tendered for filing as part of its FERC Gas Tariff, First Revised Volume No. 1, the following revised tariff sheet to become effective October 1, 2002:

Substitute First Revised Second Revised Sheet No. 240

Williams states that this filing is in compliance with the Commission Order issued on September 27, 2002 (100 FERC ¶ 61,371), which required revisions to a tariff sheet previously filed on August 1, 2002 to implement the various standards of Version 1.5 of the North American Energy Standards Board as adopted by Commission Order No. 587-O.

Williams states that copies of the revised tariff sheet are being mailed to Williams' jurisdictional customers and interested state commissions, as well as those parties appearing on the official service list in this docket.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27056 Filed 10-24-02; 8:45 am]

BILLING CODE 6717-01-P